DEPARTMENT OF EDUCATION

Submission for OMB Review; Small Business Innovation Research (SBIR) Program—Phase I—Grant Application Package

SUMMARY: This application package invites small business concerns to submit a Phase I application for the Small Business Innovation Research (SBIR) Program (CFDA 84.133). This is in response to Public Law 106-554, the “Small Business Reauthorization Act of 2000, H.R. 5667” enacted on December 21, 2000.

DATES: Interested persons are invited to submit comments on or before May 18, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04809. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Small Business Innovation Research (SBIR) Program—Phase I—Grant Application Package.

OMB Control Number: 1820-0684.

Type of Review: Extension.

Total Estimated Number of Annual Responses: 200.

Total Estimated Number of Annual Burden Hours: 9,000.

Abstract: The Small Business Reauthorization Act of 2000, H.R. 5667 requires certain agencies, including the U.S. Department of Education to establish a SBIR program by reserving a statutory percentage of their extramural research and development budgets to be awarded to small business concerns for research or research and development through a uniform, highly competitive, three-phase process each fiscal year.

This information collection is being submitted under the Streamlined Clearance Process for Discretionary Grant Information Collections (1894-0001). Therefore, the 30-day public comment period notice will be the only public comment notice published for this information collection.

Dated: April 13, 2012.
Tomakie Washington,
Acting Director, Information Collection Clearance Division, Privacy, Information and Records Management Services, Office of Management.

[FR Doc. 2012-9309 Filed 4-17-12; 8:45 am]

BILLING CODE 4000-01-P